ENVIRONMENTAL PROTECTION AGENCY

[EPA HQ-OAR-2020-0624; FRL-9387-01-OMS]

Information Collection Request Submitted to OMB for Review and Approval; Comment Request; NESHAP for Chemical Recovery Combustion Sources at Kraft, Soda, Sulfite, and Stand-Alone Semichemical Pulp Mills (Renewal)

AGENCY: Environmental Protection Agency (EPA).

ACTION: Notice.

SUMMARY: The Environmental Protection Agency has submitted an information collection request (ICR), “NESHAP for Chemical Recovery Combustion Sources at Kraft, Soda, Sulfite, and Stand-Alone Semichemical Pulp Mills (Renewal)” (EPA ICR Number 1805.11, OMB Control Number 2060-0377), to the Office of Management and Budget (OMB) for review and approval in accordance with the Paperwork Reduction Act. This is a proposed extension of the ICR, which is currently approved through December 31, 2021. Public comments were previously requested, via the Federal Register, on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before January 26, 2022.

ADDRESSES: Submit your comments, referencing Docket ID Number EPA HQ-OAR-2020-0624, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Chemical Recovery Combustion Sources at Kraft, Soda, Sulfite, and Stand-Alone Semichemical Pulp Mills apply to new and existing chemical recovery combustion sources at kraft, soda, sulfite, and stand-alone semichemical pulp mills, for which the chemical recovery combustion sources emit greater than or equal to 10 tons per year (tpy) of any one hazardous air pollutant (HAP) or greater than or equal to 25 tpy of any combination of HAPs. In general, all NESHAP standards require initial notifications, performance tests, and periodic reports by the owners/operators of the affected facilities. They are also required to maintain records of any failures to meet applicable standards, or any period during which the monitoring system is inoperative. These notifications, reports, and records are essential in determining compliance, and are required of all affected facilities subject to 40 CFR part 63, subpart MM.

Form Numbers: 5900-520.

Respondents/affected entities: Chemical recovery combustion sources at kraft, soda, sulfite, and stand-alone semichemical pulp mills.

Respondent's obligation to respond: Mandatory (40 CFR part 63, subpart MM).

Estimated number of respondents: 104 (total).

Frequency of response: Initially, occasionally, and semiannually.

Total estimated burden: 117,000 hours (per year). Burden is defined at 5 CFR 1320.3(b).

Total estimated cost: $14,700,000 (per year), which includes $788,000 in annualized capital/startup and/or operation & maintenance costs.

Changes in the Estimates: There is an adjustment decrease in the total estimated burden as currently identified in the OMB Inventory of Approved Burdens. This decrease is not due to any program changes. This ICR includes a more accurate estimate of the number of existing facilities based on review of EPA's Enforcement and Compliance History Online (ECHO) and Greenhouse Gas Reporting Program (GHGRP) databases and consultations with the Agency's internal industry experts, and revises the previous number of 107 respondents down to 104. All 3 of the facilities removed are classified as Kraft Mills. The number of existing sources is adjusted downward to 254 and the number of ESPs is revised down to 178. This ICR also adjusts the growth rate from the previous ICR to remove the burden for a new source that was constructed in 2021, and removes burden from one-time initial compliance activities following the 2017 final rule (adjusting existing data acquisition systems to reflect the changes from the final rule). Therefore, the change in burden from the most-recently approved ICR, as currently identified in the OMB Inventory of Approved Burdens, is attributed to the alteration in total respondents, and because these standards have been in effect for more than three years. This ICR, by in large, reflects the on-going burden and costs for existing facilities. The decrease in the capital/startup cost is solely attributed to the decrease in total respondents. Since there are no significant changes in the regulatory requirements, the operation and maintenance (O&M) costs remain unaffected.

Courtney Kerwin,
Director, Regulatory Support Division.

[FR Doc. 2021-28046 Filed 12-23-21; 8:45 am]

BILLING CODE 6560-50-P